DEPARTMENT OF EDUCATION

[Docket No.: ED-2024-SCC-0128]

Agency Information Collection Activities; Comment Request; Mandatory Civil Rights Data Collection

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before December 16, 2024.

ADDRESSES: To access and review all the documents related to the information collection listed in this notice, please use http://www.regulations.gov by searching the Docket ID number ED-2024-SCC-0128. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Sala Green, 202-900-8558.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Mandatory Civil Rights Data Collection.

OMB Control Number: 1870-00504.

Type of Review: A revision of a currently approved ICR.

Respondents/Affected Public: State, Local or Tribal Governments.

Total Estimated Number of Annual Responses: 17,717.

Total Estimated Number of Annual Burden Hours: 2,290,195.

Abstract: The collection, use, and reporting of education data is an integral component of the mission of the U.S. Department of Education (Department). The Department has collected civil rights data about the nation's public schools via the Civil Rights Data Collection (CRDC) since 1968. As with previous CRDC collections, the purpose of the 2025-26 and 2027-28 CRDCs is to obtain vital data related to the civil rights laws' requirement that public local educational agencies (LEA) and elementary and secondary schools provide equal educational opportunity. The Department has analyzed the uses of many data elements collected in the 2020-21 CRDC and sought advice from experts across the Department to refine, improve, and where appropriate, add or remove data elements from the collection. CRDC data definitions and metrics are consistent with other mandatory collections across the Department wherever possible. The Department seeks the Office of Management and Budget's approval under the Paperwork Reduction Act to collect from LEAs the elementary and secondary education data described in the sections of Attachment A. The Department requests that LEAs and other stakeholders review and comment on the proposed changes (detailed in Supporting Statement A, Attachments A-1, A-2, A-3, and A-4, and Attachment B), and respond to the directed questions found in Attachment A-5.

Dated: October 10, 2024.
Stephanie Valentine,
PRA Coordinator, Strategic Collections and Clearance, Governance and Strategy Division, Office of Chief Data Officer, Office of Planning, Evaluation and Policy Development.

[FR Doc. 2024-23892 Filed 10-16-24; 8:45 am]

BILLING CODE 4000-01-P